DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services as amended most recently at 68 FR 45264, August 1, 2003, is amended to: revise the functional statements for the Office of the Administrator (OA); and the Office of Policy, Planning and Budget (OPPB) within the Office of the Administrator, and reflect changes in the Division structure within OPPB; and to also revise the functional statements for the Office of Program Services (OPS), and reflect changes in the Division structure within OPS. These organizational changes will more effectively align budget, planning, and administrative functions; achieve further delayering by restructuring certain divisions, abolishing subordinate branch structures, and reducing the number of supervisory positions; and allow SAMHSA to more effectively use its resources and deploy additional positions to mission support activities. The changes are as follows:

Section M.20, Functions is amended as follows:

(A) The functional statements for the Office of the Administrator (MA), the Office of Policy, Planning and Budget (MAC) and the prior Division of Policy Coordination (MAC-1) and Division of Planning and Budget (MAC-2) are replaced with the following:

Office of the Administrator (MA)

The Administrator is responsible to the Secretary for managing and directing SAMHSA. The office functions are as follows: (1) Provides leadership in the development of agency policies and programs; (2) maintains liaison with the Office of the Secretary on matters related to program and other activities; (3) provides oversight for coordination between SAMHSA and the National Institutes of Health (NIH) on the conduct of research and the dissemination of research findings in the areas of alcohol, drug abuse, and mental health; (4) analyzes legislative issues, and maintains liaison with congressional committees; (5) coordinates Agency communications and conducts public affairs activities; and (6) provides agency-wide correspondence control services.

Office of Policy, Planning and Budget (MD)

Provides leadership for the development and implementation of the Administrator's policies and programs through the following functions: (1) Develops and manages Agency policy for the Administrator and senior staff; (2) performs the Chief Financial Officer function and manages budget formulation and execution; (3) manages agency-wide strategic and program planning activities; and (4) provides leadership to the Centers Offices of Policy Analysis and Coordination (OPAC) and other Agency staff to assure consistent implementation of policies and procedures in budget, planning, and policy review.

Office of the Director (MD1)

(1) Coordinates agency participation in Department of Health and Human Services strategic and program planning activities; (2) coordinates agency-level strategic and program planning activities; (3) develops policy guidance for grants and contracts development processes, and monitors progress; (4) develops and manages the Government Performance and Results Act (GPRA) process for the agency, assesses progress in attaining goals, and reports accomplishments; (5) manages Agency response to the OMB PART review process; (6) provides policy guidance and oversight for Agency evaluation activities; (7) develops extramural policy recommendations for the Administrator and guidance for the Agency; (8) manages the SAMHSA National Advisory Council and the Advisory Committee for Women?s Services; and (9) provides Chief Financial Officer function.

Division of Policy Coordination (MDA)

(1) Develops policy recommendations and issues for the Administrator and senior leadership and manages the coordination and implementation of the Agency's national program policies; (2) coordinates policy development for the Administrator?s program priorities and principles; (3) provides expertise for Agency leadership on issues and initiatives for alcohol, HIV/AIDS, minority health, disaster readiness and response, children and families, women's services, and science-to-services; and (4) manages the Agency's coordination of departmental and Presidential initiatives, nationally and internationally.

Division of Financial Management (MDB)

(1) Manages and coordinates the Agency budget plans and formulates and presents SAMHSA's future budget and financial management activities; (2) prepares budget justification documents which support the Administrator's priorities and decisions; (3) provides day-to-day liaison with budget staff at other levels: (4) evaluates internal fiscal controls to assure compliance with laws, regulations, policies, and sound business practices; and (5) manages and coordinates Agency budget execution, including the apportionment and allotment processes, overhead and assessment changes, and monitoring of overall expenditures.

(B) The functional statements for the Office of Program Services (MB) and the subordinate Office of the Director (formerly MB-1) and the Divisions within OPS are replaced with the following:

Office of Program Services (MB)

(1) Works in partnership with other SAMHSA and HHS components in managing, providing leadership, and ensuring SAMHSA's needs are met in the following service areas: grant and contract application review, grants and contracts management, administrative services, human resources management, equal employment opportunity, organizational development and analysis, and information technology; (2) provides leadership in the development of policies for and the analysis, performance measurement, and improvement of SAMHSA administrative and management systems; (3) provides leadership, guidance, and technical expertise for the Agency's information technology program; (4) provides centralized administrative services for the Agency; and (5) conducts all aspects of the SAMHSA grants and contracts management process.

Office of the Director (MB1)

(1) Provides leadership and guidance, oversees and monitors the range of administrative and program services which are provided to all SAMHSA components; (2) provides general policy review and executive oversight of cross-cutting management and administrative issues; (3) streamlines, improves, and integrates administrative services and systems; (4) coordinates cross-cutting tasks and initiatives; (5) tracks and measures administrative program performance; (6) plans, administers, and coordinates the review of grant and cooperative agreement applications; (7) develops grant review policies and procedures; (8) monitors the grant review process to ensure the quality of the review and its conformance to Agency policies; (9) participates in the review of Requests for Applications (RFAs); and (10) administers participant and confidentiality certificate activities.

Division of Management Systems (MBC)

(1) Provides leadership in the development of policies for and the analysis, performance measurement, and improvement of SAMHSA administrative, management, and information systems; (2) coordinates with other service providers the provision of human resource management services, equal employment opportunity services, and information technology services (including operation of the LAN and personal computer, databases, voice mail/faxes, and general machine repairs), working with HHS service components and outside organizations as necessary and monitoring their performance; (3) manages the SAMHSA ethics program; (4) coordinates and serves as a focal point for SAMHSA intern and summer employment programs; (5) provides advisory services to managers and supervisors in such matters as organizational development, analysis, performance, and performance measurement; (6) coordinates General Accounting Office and Office of the Inspector General reviews and information requests, internal control reviews, and Federal Managers Financial Integrity Act responses; (7) plans and coordinates various management activities such as records management, forms management, Privacy Act, and OPS Freedom of Information Act requests; (8) develops, maintains, and manages administrative management systems regarding policies and procedures; (9) serves as the focal point for information systems policy, strategic planning, budget preparation, coordination and security; (10) coordinates agency-wide database administration and systems configuration management; provides advice, assistance, and training to Agency staff in obtaining maximum utilization of and services from its information/application systems and databases; (11) exercises clearance authority for agency-wide information resources management projects; and (12) reviews and analyzes new information resources management developments and ensures necessary support services are provided.

Division of Grants Management (MBE)

(1) Conducts all aspects of the SAMHSA grants management process; (2) develops, implements, and coordinates the application of Agency standards, methods and procedures for the management of grants and cooperative agreements; (3) provides guidance to the Agency, applicants, and grantees on the management and administrative aspects of grant programs; (4) reviews applications, reports, and active projects to ensure compliance with management policies and procedures; (5) prepares, processes, and disseminates award documents; (6) prepares special and recurring reports relating to applications and awards; and (7) measures and tracks grants management performance.

Division of Contracts Management (MBF)

(1) Conducts all aspects of the SAMHSA contracts management process; (2) develops and implements standards and procedures for the management of the Agency's contracts and purchase card programs; (3) reviews and evaluates contract proposals to determine acceptability and cost reasonableness; (4) advises Agency personnel on contracts management policies and procedures established by law and Agency guidelines; (5) maintains internal control over the contracts management function; (6) issues contract awards following appropriate laws, regulations, guidelines and policies; (7) coordinates and participates in all phases of the acquisition cycle, including pre-solicitation, solicitation, negotiation, award, administration, and close out of the Agency's contracts; and (8) measures and tracks contract management performance.

Division of Operational Support (MBH)

(1) Provides centralized administrative services for the Agency, including processing and coordinating requests for and providing advice on procurement actions, travel, property, facilities, and other activities; (2) coordinates actions as necessary with other HHS components such as the Program Support Center (PSC) procurement staff and the contract travel agency; (3) promotes the awarding of contracts to disadvantaged businesses and women-owned small businesses; (4) processes and coordinates requests for SAMHSA administrative actions; (5) provides advice and guidance to staff on administrative procedures for processing actions such as travel orders, acquisition requests, and training documents; (6) ensures administrative actions are consistent with regulations and other requirements, and implements general management policies as prescribed by SAMHSA and higher authorities; (7) coordinates the provision of support in the areas of real and personal property, building management, facility management, health and safety, security, transportation, parking, and telecommunications; (8) in collaboration with the Division of Financial Management in the Office of Policy, Planning, and Budget, performs budget execution tasks such as certifying funds, maintaining the commitment database, and reconciling accounts for program management for SAMHSA; (9) coordinates and complies with policies and procedures set forth by the Division of Financial Management for budget execution.

Section M.40. Delegations of Authority. All delegations and redelegations of authority to officers and employees of SAMHSA which were in effect immediately prior to the effective date of this reorganization shall continue in effect pending further redelegations, providing they are consistent with the reorganization.

These organizational changes are effective November 21, 2003.

Dated: November 21, 2003.
Charles G. Curie,
Administrator.

[FR Doc. 03-30024 Filed 12-1-03; 8:45 am]

BILLING CODE 4160-01-P